DEPARTMENT OF THE TREASURY

Office of Thrift Supervision

[AC-08: OTS Nos. H-3795, H-3796 and 00358]

AJS Bancorp, MHC, Midlothian, Illinois, AJS Bancorp, Inc., Midlothian, Illinois; Approval of Mutual Holding Company Reorganization

Notice is hereby given that on November 9, 2001, the Director, Examination Policy, Office of Thrift Supervision, or her designee, acting pursuant to delegated authority, approved the applications of A. J. Smith Federal Savings Bank, Midlothian, Illinois (the “Savings Bank”), to reorganize into mutual holding company form (the “Notice”) with a mid-tier holding company (AJS Bancorp, Inc.). Copies of the applications and Notice are available for inspection at the Dissemination Branch, Office of Thrift Supervision, 1700 G Street, NW., Washington, DC 20552, and the Central Regional Office, Office of Thrift Supervision, 1 South Wacker Drive, Suite 2000, Chicago, Illinois 60606.

Dated: November 13, 2001.
By the Office of Thrift Supervision.
Nadine Y. Washington,
Corporate Secretary.

[FR Doc. 01-28745 Filed 11-15-01; 8:45 am]

BILLING CODE 6720-01-M